DEPARTMENT OF TRANSPORTATION

Federal Aviation Administration

14 CFR Part 71

[Docket No. FAA-2006-25997; Airspace Docket No. 06-ANM-5]

Revision of Class E Airspace; Redmond, OR

AGENCY: Federal Aviation Administration (FAA), DOT.

ACTION: Final rule.

SUMMARY: This action will revise the Class E airspace at Redmond, OR. Additional Class E airspace is necessary to accommodate aircraft using a new Area Navigation (RNAV) Global Positioning System (GPS) Standard Instrument Approach Procedure (SIAP) at City-County Airport, Madras, OR. This will improve the safety of Instrument Flight Rules (IFR) aircraft executing the new RNAV GPS SIAP at City-County Airport, Madres, OR.

EFFECTIVE DATE: 0901 UTC, July 05, 2007. The Director of the Federal Register approves this incorporation by reference action under 1 CFR part 51, subject to the annual revision of FAA Order 7400.9 and publication of conforming amendments.

FOR FURTHER INFORMATION CONTACT: Ed Haeseker, Federal Aviation Administration, Western Service Area, System Support, 1601 Lind Avenue, SW., Renton, WA 98057; telephone (425) 917-6714.

SUPPLEMENTARY INFORMATION:

History

On February 23, 2007, the FAA published in the Federal Register a notice of proposed rulemaking to revise Class E airspace at Redmond, OR (72 FR 8137). This action would improve the safety of IFR aircraft executing this new RNAV GPS approach procedure at City-County Airport, Madras, OR. Interested parties were invited to participate in this rulemaking effort by submitting written comments on the proposal to the FAA. No comments were received.

Class E airspace designations are published in paragraph 6005 of FAA Order 7400.9P dated September 1, 2006, and effective September 15, 2006, which is incorporated by reference in 14 CFR part 71.1. The Class E airspace designations listed in this document will be published subsequently in that Order.

The Rule

This action amends Title 14 Code of Federal Regulations (14 CFR) part 71 by revising Class E airspace at Redmond, OR. Additional controlled airspace is necessary to accommodate IFR aircraft executing a new RNAV (GPS) approach procedure at City-County Airport, Madras, OR.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9P, Airspace Designations and Reporting Points, dated September 1, 2006, and effective September 15, 2006, is amended as follows:

Paragraph 6005 Class E airspace areas extending upward from 700 feet or more above the surface of the earth.

* * * * *

ANM OR E5 Redmond, OR [Revised]

Redmond, Roberts Field, OR

(Lat. 44°15′15″ N, long. 121°09′00″ W)

City-County Airport, Madras, OR

(Lat. 44°40′13″ N, long. 121°09′19″ W)

Deschutes VORTAC

(Lat. 44°15′10″ N, long. 121°18′13″ W)

That airspace extending upward from 700 feet above the surface within 1.8 miles north and 11.8 miles south of the Deschutes VORTAC 059° radial to 28.8 miles east of the VORTAC, and within 1.8 miles each side of the 230° bearing from the Roberts Field Airport extending 8.7 miles southwest of the airport, and within 1.8 miles each side of Deschutes VORTAC 162° radial extending from the VORTAC to 4.3 miles south of the VORTAC, and within 1.8 miles each side of the Deschutes VORTAC 281° radial extending from the VORTAC to 4.3 miles west of the VORTAC, and within 3.5 miles west and 7.0 miles east of the Deschutes VORTAC 014° radial extending from 9.5 miles north of the VORTAC to 30.5 miles north; that airspace extending upward from 1,200 feet above the surface within a 32.2-mile radius of the VORTAC between the 006° and 048° radials, within a 27-mile radius of the VORTAC between the 048° radial and a line 5.3 miles west of and parallel to the 189° radial; that airspace extending upward from 1,700 feet above the surface within a line beginning at Deschutes VORTAC extending north on V-25 to V-112, east on V-112 to V-4, southeast on V-4 to V-357, southwest on V-357 to V-122, west on V-122 to V-452, northwest on V-452 to V-269, east on V-269 to the Deschutes VORTAC.

* * * * *

Issued in Seattle, Washington, on March 30, 2007.
Steven M. Osterdahl,
Director of Operations, En Route and Oceanic, Western Service Area.

[FR Doc. E7-6882 Filed 4-11-07; 8:45 am]

BILLING CODE 4910-13-P